DEPARTMENT OF HEALTH AND HUMAN SERVICES

National Institutes of Health

Center for Scientific Review; Amended Notice of Meeting

Notice is hereby given of a change in the meeting of the Infectious Diseases, Reproductive Health, Asthma and Pulmonary Conditions Study Section, October 7, 2013, 8:00 a.m. to October 8, 2013, 3:00 p.m., Hilton Old Town Alexandria, Alexandria, VA 22314 which was published in the Federal Register on September 11, 2013, 78 FR 176 Pgs. 55752-55753.

The meeting will be held at the National Institutes of Health, 6701 Rockledge Dr., Bethesda, MD 20892. The meeting will start on December 17, 2013 at 8:00 a.m. and end on December 18, 2013 at 5:00 p.m. The meeting is closed to the public.

Dated: October 25, 2013.
Anna Snouffer,
Deputy Director, Office of Federal Advisory Committee Policy.

[FR Doc. 2013-25766 Filed 10-29-13; 8:45 am]

BILLING CODE 4140-01-P